DEPARTMENT OF TRANSPORTATION

Federal Aviation Administration

14 CFR Part 39

[Docket No. FAA-2025-5392; Project Identifier MCAI-2025-01494-R; Amendment 39-23221; AD 2025-25-13]

RIN 2120-AA64

Airworthiness Directives; Leonardo S.p.A. Helicopters

AGENCY: Federal Aviation Administration (FAA), DOT.

ACTION: Final rule; request for comments.

SUMMARY: The FAA is adopting a new airworthiness directive (AD) for all Leonardo S.p.A. Model A119 and AW119 MKII helicopters. This AD was prompted by reports of trapped residue in the rear pneumatic line due to a non-optimal cleaning procedure. This AD requires accomplishing repetitive engine acceleration checks and, depending on the results, replacing the rear pneumatic line and inspecting the fuel control unit (FCU), and accomplishing any necessary corrective actions. This AD also requires replacing certain parts if the engine acceleration check exceeds the maximum limit, which terminates the repetitive acceleration checks. If the limits do not exceed the maximum limit, this AD would allow this replacement as an optional terminating action. Additionally, this AD prohibits installing an affected engine or FCU on a helicopter unless certain requirements are met. The FAA is issuing this AD to address the unsafe condition on these products.

DATES: This AD is effective January 13, 2026.

The Director of the Federal Register approved the incorporation by reference of a certain publication listed in this AD as of January 13, 2026.

The FAA must receive comments on this AD by February 12, 2026.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-5392; or in person at Docket Operations between 9 a.m. and 5 p.m., Monday through Friday, except Federal holidays. The AD docket contains this final rule, the mandatory continuing airworthiness information (MCAI), any comments received, and other information. The street address for Docket Operations is listed above.

Material Incorporated by Reference:

• For European Union Aviation Safety Agency (EASA) material identified in this AD, contact EASA, Konrad-Adenauer-Ufer 3, 50668 Cologne, Germany; phone: +49 221 8999 000; email: ADs@easa.europa.eu; website: easa.europa.eu. You may find the EASA material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2025-5392.

FOR FURTHER INFORMATION CONTACT: Mahmood Shah, Aviation Safety Engineer, FAA, 1600 Stewart Avenue, Suite 410, Westbury, NY 11590; phone: (817) 222-5538; email: mahmood.g.shah@faa.gov.

SUPPLEMENTARY INFORMATION:

Comments Invited

The FAA invites you to send any written data, views, or arguments about this final rule. Send your comments using a method listed under ADDRESSES. Include “Docket No. FAA-2025-5392; Project Identifier MCAI-2025-01494-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Mahmood Shah, Aviation Safety Engineer, FAA, 1600 Stewart Avenue, Suite 410, Westbury, NY 11590. Any commentary that the FAA receives which is not specifically designated as CBI will be placed in the public docket for this rulemaking.

Background

EASA, which is the Technical Agent for the Member States of the European Union, has issued EASA AD 2025-0199, dated September 16, 2025 (EASA AD 2025-0199) (also referred to as the MCAI), to correct an unsafe condition on Leonardo S.p.A. Model A119 and AW119MKII helicopters. The MCAI states that there have been reports of trapped residue in the rear pneumatic line caused by a non-optimal cleaning procedure during an engine shop visit.

This condition, if not corrected, could result in uncommanded fuel flow changes, which could lead to accelerations, power rollbacks, or instability, and consequent reduced control of the helicopter.

You may examine the MCAI in the AD docket at regulations.gov under Docket No. FAA-2025-5392.

Material Incorporated by Reference Under 1 CFR Part 51

The FAA reviewed EASA AD 2025-0199, which specifies procedures for repetitively conducting engine acceleration checks for certain helicopters and, depending on the results, replacing the rear pneumatic line and inspecting the FCU pneumatic line input fitting. If there is contamination in the FCU pneumatic line input fitting, EASA AD 2025-0199 specifies procedures for replacing the FCU and cleaning the forward pneumatic line. If no contamination is found in the FCU pneumatic line input fitting, EASA AD 2025-0199 specifies procedures for adjusting the engine acceleration and accomplishing repetitive engine acceleration checks until the rear pneumatic line, engine, or FCU is replaced.

Additionally, EASA AD 2025-0199 specifies that for certain helicopters replacing the rear pneumatic line with a serviceable one is a requirement and terminates the repetitive acceleration checks. EASA AD 2025-0199 also specifies that several actions including replacing certain parts and accomplishing certain checks also terminate the repetitive acceleration checks. Finally, EASA AD 2025-0199 prohibits installing an affected engine or FCU on a helicopter unless certain requirements are met.

This material is reasonably available because the interested parties have access to it through their normal course of business or by the means identified in ADDRESSES.

FAA's Determination

These products have been approved by the civil aviation authority (CAA) of another country and are approved for operation in the United States. Pursuant to the FAA's bilateral agreement with this State of Design Authority, that authority has notified the FAA of the unsafe condition described in the MCAI referenced above. The FAA is issuing this AD after determining that the unsafe condition described previously is likely to exist or develop on other products of the same type design.

AD Requirements

This AD requires accomplishing the actions specified in EASA AD 2025-0199, described previously, as incorporated by reference, except for any differences identified as exceptions in the regulatory text of this AD. See “Differences Between this AD and the MCAI” for a discussion of the general differences included in this AD.

The owner/operator (pilot) holding at least a private pilot certificate may perform the initial acceleration checks and must enter compliance with the applicable paragraph(s) of the AD into the helicopter maintenance records in accordance with 14 CFR 43.9(a) and 91.417(a)(2)(v). The pilot may perform these checks as they involve only a ground check and monitoring of the engine gauges. These actions could be performed equally well by a pilot or a mechanic. This is an exception to the FAA's standard maintenance regulations.

Differences Between This AD and the MCAI

The MCAI specifies to replace the affected pneumatic line with a serviceable pneumatic line immediately if acceleration exceeds the maximum value during the engine acceleration check and within 300 FH [flight hours] or 24 months, whichever occurs first, for all other helicopters. The 300-FH or 24-month compliance time would allow enough time to provide notice and opportunity for prior public comment so this AD allows the replacement as an optional terminating action for the repetitive acceleration checks but does not require the replacement in regards to paragraph (5) of EASA AD 2025-0199. The FAA is considering further rulemaking for this replacement that would allow the public the opportunity for prior public comment.

Explanation of Required Compliance Information

In the FAA's ongoing efforts to improve the efficiency of the AD process, the FAA developed a process to use some CAA ADs as the primary source of information for compliance with requirements for corresponding FAA ADs. The FAA has been coordinating this process with manufacturers and CAAs. As a result, EASA AD 2025-0199 is incorporated by reference in this AD. This AD requires compliance with EASA AD 2025-0199 in its entirety through that incorporation, except for any differences identified as exceptions in the regulatory text of this AD. Using common terms that are the same as the heading of a particular section in EASA AD 2025-0199 does not mean that operators need comply only with that section. For example, where the AD requirement refers to “all required actions and compliance times,” compliance with this AD requirement is not limited to the section titled “Required Action(s) and Compliance Time(s)” in EASA AD 2025-0199. Material required by EASA AD 2025-0199 for compliance will be available at regulations.gov under Docket No. FAA-2025-5392 after this AD is published.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because residue in the rear pneumatic line if not detected and addressed could result in uncommanded fuel flow changes resulting in accelerations, power rollbacks, or instability. Since this condition could already exist and result in reduced control of the helicopter at any time without warning the initial engine acceleration check must be accomplished within 10 hours time-in-service after the effective date of this AD. This compliance time is shorter than the time necessary for the public to comment and for publication of the final rule. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 12 helicopters of U.S. registry.

The FAA estimates the following costs to comply with this AD:

Estimated Costs
Action | Labor cost | Parts cost | Cost per product | Cost on U.S. operators
Engine acceleration check | 2 work-hours × $85 per hour = $170 per check | $0 | $170 | $2,040

Estimated Costs for Optional Actions
Action | Labor cost | Parts cost | Cost per product
Replace engine | 10 work-hours × $85 per hour = $850 | $1,301,315 | $1,302,165

The FAA estimates the following costs to do any repairs or replacements that would be required based on the results of the check. The agency has no way of determining the number of helicopters that might need these repairs or replacements:

Estimated Costs of On-Condition Costs
Action | Labor Cost | Parts Cost | Cost per product
Replace FCU | 4 work-hours × $85 per hour = $340 | 9,000 | 9,340
Clean pneumatic line and bulkhead coupling | 1.5 work-hours × $85 per hour = $128 | 9,154 | 9,282
Replace rear pneumatic line | 4 work-hours × $85 per hour = $340 | 1,000 | 1,340

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-25-13 Leonardo S.p.A.: Amendment 39-23221; Docket No. FAA-2025-5392; Project Identifier MCAI-2025-01494-R.

(a) Effective Date

This airworthiness directive (AD) is effective January 13, 2026.

(b) Affected ADs

None.

(c) Applicability

This AD applies to Leonardo S.p.A. Model A119 and AW119 MKII helicopters, certificated in any category.

(d) Subject

Joint Aircraft System Component (JASC) Code 7100, Powerplant System.

(e) Unsafe Condition

This AD was prompted by reports of trapped residue in the rear pneumatic line due to non-optimal cleaning procedures. The FAA is issuing this AD to detect and correct a contaminated rear pneumatic line. The unsafe condition, if not corrected, could result in uncommanded fuel flow changes, which could lead to accelerations, power rollbacks, or instability, and consequent reduced control of the helicopter.

(f) Compliance

Comply with this AD within the compliance times specified, unless already done.

(g) Required Actions

Except as specified in paragraphs (h) and (i) of this AD: Comply with all required actions and compliance times specified in, and in accordance with, European Union Aviation Safety Agency AD 2025-0199, dated September 16, 2025 (EASA AD 2025-0199).

(h) Exceptions to EASA AD 2025-0199

(1) Where EASA AD 2025-0199 refers to its effective date, this AD requires using the effective date of this AD.

(2) Where EASA AD 2025-0199 requires compliance in terms of flight hours, this AD requires using hours time-in-service.

(3) Where the definition of affected engines, affected FCU [fuel control unit], affected pneumatic line, and serviceable pneumatic line in EASA AD 2025-0199 all refer to “the P&WC SB No. A39125R1”, for this AD replace that text with “the applicable original issue of the alert service bulletin listed in the Ref. Publications section (referencing P&WC SB No. A39125R1)”.

(4) Where paragraph (1) and paragraph (4.2) of EASA AD 2025-0199 specifies “accomplish acceleration checks of the engine in accordance with the instructions of the Part 1 of the ASB (referencing Part A of the P&WC SB No. A39125R1)”, for this AD replace that text with “accomplish acceleration checks of the engine”. The owner/operator (pilot) holding at least a private pilot certificate may perform the checks required by paragraph (g) of this AD and must enter compliance with these paragraphs into the helicopter maintenance records in accordance with 14 CFR 43.9(a) and 91.417(a)(2)(v). The record must be maintained as required by 14 CFR 91.417, 121.380, or 135.439.

(5) Where paragraph (5) of EASA AD 2025-0199 specifies to replace the affected pneumatic line with a serviceable pneumatic line within 300 FH or 24 months, whichever occurs first, for this AD that replacement is only required before further flight per paragraph (2) of EASA AD 2025-0199. For this AD if not required by paragraph (2) of EASA AD 2025-0199 this replacement is an optional terminating action for the repetitive acceleration checks required by paragraph (1) of EASA AD 2025-0199.

(6) This AD does not adopt the “Remarks” section of EASA AD 2025-0199.

(i) No Reporting Requirement

Although the material referenced in EASA AD 2025-0199 specifies to submit certain information to the manufacturer, this AD does not require that action.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov.

(2) Before using any approved AMOC, notify your appropriate principal inspector, or lacking a principal inspector, the manager of the local flight standards district office/certificate holding district office.

(k) Additional Information

For more information about this AD, contact Mahmood Shah, Aviation Safety Engineer, FAA, 1600 Stewart Avenue, Suite 410, Westbury, NY 11590; phone: (817) 222-5538; email: mahmood.g.shah@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2025-0199, dated September 16, 2025.

(ii) [Reserved]

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on December 12, 2025.
Steven W. Thompson,
Acting Deputy Director, Compliance & Airworthiness Division, Aircraft Certification Service.

[FR Doc. 2025-23861 Filed 12-22-25; 11:15 am]

BILLING CODE 4910-13-P